DEPARTMENT OF TRANSPORTATION

Surface Transportation Board

[Docket No. FD 35511]

Iowa Northern Railway Company—Trackage Rights Exemption—Dakota, Minnesota & Eastern Railroad Corporation d/b/a Canadian Pacific

Pursuant to a prospective trackage rights agreement, Dakota, Minnesota & Eastern Railroad Corporation d/b/a Canadian Pacific (CP) will agree to grant overhead trackage rights to Iowa Northern Railway Company (IANR) over approximately 78.2 miles of rail line between: (1) Milepost 137.50 near Garner, Iowa, and milepost 116.70 at the connection with CP's Mason City Subdivision, a distance of approximately 20.80 miles; (2) milepost 116.70 at the connection with CP's Mason City Subdivision and milepost 107.30 near Nora Jct., Iowa at the connection with IANR, a distance of approximately 30.2 miles between Garner and Nora Jct.; and (3) milepost 116.70 at the connection with CP's Mason City Subdivision and milepost 7.9 on CP's Austin Subdivision near Plymouth Jct., Iowa at the connection with IANR, a distance of approximately 27.2 miles between Garner and Plymouth Jct.¹

¹ IANR has included a copy of a letter of intent from CP concerning the trackage rights agreement and states that a copy of the agreement will be provided to the Board after it is finalized and executed.

The transaction may be consummated on or after June 10, 2011, the effective date of the exemption (30 days after the exemption is filed). The primary purpose of the trackage rights agreement is to enable IANR to transport freight by rail between the connection of the Forest City Line ² and Garner, Iowa and alternatively, Nora Jct., Iowa or Plymouth Jct., Iowa on the CP trackage.

² The Forest City Line is located between Belmond and Forest City, Iowa, and is owned by Union Pacific Railroad Company (UP). North Central Iowa Rail Corridor (NCIRC) provided notice that it will acquire the Forest City Line from UP. See N. Cent. Iowa Rail Corridor, LLC—Acquis. Exemption—Union Pac. R.R., FD 35507 (STB served May 26, 2011). IANR provided notice that it will be the exclusive rail operator of the Forest City Line. See Iowa N. Ry.—Operation Exemption—N. Cent. Iowa Rail Corridor, LLC, FD 35508 (STB served May 26, 2011).

As a condition to this exemption, any employees affected by the trackage rights will be protected by the conditions imposed in Norfolk and Western Railway—Trackage Rights—Burlington Northern, Inc., 354 I.C.C. 605 (1978), as modified in Mendocino Coast Railway—Lease and Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by June 3, 2011 (at least 7 days before the exemption becomes effective).

An original and 10 copies of all pleadings, referring to Docket No. FD 35511, must be filed with the Surface Transportation Board, 395 E Street, SW., Washington, DC 20423-0001. In addition, a copy of each pleading must be served on T. Scott Bannister, Iowa Northern Railway Company, 305 Second Street, SE., Suite 400, Cedar Rapids, IA 52401.

Board decisions and notices are available on our Web site at http://www.stb.dot.gov.

Decided: May 23, 2011.
By the Board, Rachel D. Campbell, Director, Office of Proceedings.
Jeffrey Herzig,
Clearance Clerk.

[FR Doc. 2011-13229 Filed 5-26-11; 8:45 am]

BILLING CODE 4915-01-P